COMMISSION ON CIVIL RIGHTS

Notice of Public Meeting of the Nebraska Advisory Committee to the U.S. Commission on Civil Rights

AGENCY: U.S. Commission on Civil Rights.

ACTION: Notice of public meeting.

SUMMARY: Notice is hereby given, pursuant to the provisions of the rules and regulations of the U.S. Commission on Civil Rights (Commission) and the Federal Advisory Committee Act, that the Nebraska Advisory Committee (Committee) to the U.S. Commission on Civil Rights will host an in-person Community Forum in Lincoln. The purpose of the meeting is to gather testimony regarding the Covid-19 Pandemic on education in the state, with a focus on digital divide and increasing mental health challenges. The Committee seeks to hear from students, teachers and other stakeholders on their experiences and in areas in which they still need support.

DATES: Wednesday, August 9, 2023, from 1:00 p.m.-4:00 p.m. Central Time]

ADDRESSES: Embassy Suites Lincoln, Room Regents B, 1040 P Street, Lincoln, NE 68506

FOR FURTHER INFORMATION CONTACT: Victoria Moreno, Designated Federal Officer, at vmoreno@usccr.gov or by phone at 434-515-0204.

SUPPLEMENTARY INFORMATION: Members of the public are entitled to make comments during the open period towards the end of the Community Forum if you did not speak during the Community Forum.

Members of the public are entitled to submit written comments; the comments must be received in the regional office within 30 days following the meeting. Written comments may be emailed to Victoria Moreno at vmoreno@usccr.gov.

Persons who desire additional information may contact the Regional Programs Coordination Unit at 434-515-0204. Records generated from this meeting may be inspected and reproduced at the Regional Programs Coordination Unit Office, as they become available, both before and after the meeting. Records of the meetings will be available via www.facadatabase.gov under the Commission on Civil Rights, Nebraska Advisory Committee link. Persons interested in the work of this Committee are directed to the Commission's website, http://www.usccr.gov, or may contact the Regional Programs Coordination Unit at vmoreno@usccr.gov.

Agenda

I. Welcome & Roll Call

II. Public Comment

III. Next Steps

IV. Adjournment

Dated: July 21, 2023.
David Mussatt,
Supervisory Chief, Regional Programs Unit.

[FR Doc. 2023-15886 Filed 7-26-23; 8:45 am]

BILLING CODE P